DEPARTMENT OF THE INTERIOR

National Park Service

[NPS-WASO-NAGPRA-13823; PPWOCRADN0-PCU00RP14.R50000]

Notice of Inventory Completion: The Michigan State University Museum, East Lansing, MI

AGENCY: National Park Service, Interior.

ACTION: Notice.

SUMMARY: The Michigan State University Museum (MSUM) has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the MSUM. If no additional requestors come forward, transfer of control of the human remains to the Indian tribes or Native Hawaiian organizations stated in this notice may proceed.

DATES: Representatives of any Indian tribe or Native Hawaiian organization not identified in this notice that wish to request transfer of control of these human remains should submit a written request with information in support of the request to the MSUM at the address in this notice by October 30, 2013.

ADDRESSES: Jaclyn Lillis-Warwick, MSUM, 409 West Circle Drive, East Lansing, MI 48824, telephone (517) 432-4339, email lillisja@msu.edu.

SUPPLEMENTARY INFORMATION: Notice is here given in accordance with the Native American Graves Protection and Repatriation Act (NAGPRA), 25 U.S.C. 3003, of the completion of an inventory of human remains under the control of the MSUM. The human remains were removed from Jackson County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the MSUM professional staff in consultation with representatives of the Pokagon Band of Potawatomi Indians, Michigan and Indiana.

History and Description of the Remains

In September and October of 1978, human remains representing, at minimum, 10 individuals were removed from the Sanuskar Site (20JA150) in Pulaski Township, Jackson County, MI. Prior to the excavation, the private property owner had performed extensive earthmoving on his property, primarily cutting and grading to obtain fill materials. During subsequent cutwork, the property owner encountered bone, and removed a human cranium from the site. The Jackson Post of the Michigan State Police was contacted on September 20, 1978, and an investigative team visited the property. When human materials were identified as prehistoric, Dr. Saur at Michigan State University (MSU) was contacted. A team of MSU archeologists excavated the site and, upon completion of the project, the MSUM curated the human remains.

Four individual burials were identified. Individual 1 was a virtually complete, flexed burial and was identified as a mid-adult female. Individual 2 was a virtually complete, except for arms and legs, extended burial and was identified as a late-adult female. Individual 3 was a fragmented burial identified as an adult male. Individual 4 was a fragmented burial identified as a young-adult male. The remaining human remains, representing at minimum six additional individuals, included a cranial piece, four ribs, five long bone fragments, four tarsal fragments, and numerous other unidentifiable bone fragments. No known individuals were identified. No associated funerary objects are present. The human remains date to the Late Prehistoric era based on the structure of the mortuary domain being consistent with burial practices.

Determinations Made by the Michigan State University Museum

Officials of the MSUM have determined that:

• Pursuant to 25 U.S.C. 3001(9), the human remains described in this notice are Native American, based on age and burial practices.

• Pursuant to 25 U.S.C. 3001(9), the human remains described in this notice represent the physical remains of 10 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Pokagon Band of Potawatomi Indians, Michigan and Indiana and the Grand River Band of Odawa Indians (GRBOI), a non-Federally recognized Indian group.

• Treaties, Acts of Congress, or Executive Orders, indicate that the land from which the Native American human remains were removed is the aboriginal land the Pokagon Band of Potawatomi Indians, Michigan and Indiana and the Grand River Band of Odawa Indians (GRBOI), a non-Federally recognized Indian group.

• Pursuant to 43 CFR 10.11(c)(1), the disposition of the human remains may be to the Pokagon Band of Potawatomi Indians, Michigan and Indiana.

Additional Requestors and Disposition

Representatives of any Indian tribe or Native Hawaiian organization not identified in this notice that wish to request transfer of control of these human remains should submit a written request with information in support of the request to Jaclyn Lillis-Warwick, MSUM, 409 West Circle Drive, East Lansing, MI 48824, telephone (517) 432-4339, email lillisja@msu.edu, by October 30, 2013. After that date, if no additional requestors have come forward, transfer of control of the human remains to the Pokagon Band of Potawatomi Indians, Michigan and Indiana, may proceed.

The MSUM is responsible for notifying the Pokagon Band of Potawatomi Indians, Michigan and Indiana that this notice has been published.

Dated: August 21, 2013.
Sherry Hutt,
Manager, National NAGPRA Program.

[FR Doc. 2013-23820 Filed 9-27-13; 8:45 am]

BILLING CODE 4312-50-P